DEPARTMENT OF ENERGY

Federal Energy Regulatory Commission

[Docket No. CP15-148-000]

Tennessee Gas Pipeline Company, L.L.C; Notice of Schedule for Environmental Review of the Susquehanna West Project

On April 2, 2015, Tennessee Gas Pipeline Company, L.L.C. (TGP) filed an application in Docket No. CP15-148-000 requesting authorization pursuant to section 7(c) of the Natural Gas Act to construct and operate certain natural gas pipeline facilities. The proposed project is known as the Susquehanna West Project (Project), and would deliver an additional 145,000 dekatherms per day of natural gas. According to TGP, its project would meet market needs in the northeast U.S., which have been capacity constrained.

On April 13, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA, February 23, 2016

90-day Federal Authorization Decision Deadline, May 23, 2016

If a schedule change becomes necessary, additional notice will be provided so that the relevant agencies are kept informed of the Project's progress.

Project Description

TGP is proposing to construct 8.1 miles of new 36-inch-diameter looping ¹ pipeline in two segments in Tioga County, Pennsylvania; relocation of an existing 16,000 horsepower compressor unit from Compressor Station 319 to Compressor Station 317, both located in Bradford County, Pennsylvania, resulting in an increase of 16,000 horsepower at Compressor Station 317; replacement of an existing compressor unit at Compressor Station 319 with a new 20,500 horsepower compressor unit, resulting in an increase of 4,500 horsepower at Compressor Station 319; and certain piping and equipment modifications associated with the pipeline loops at Compressor Stations 315, 317, and 319.

¹ A pipeline loop is a segment of pipe constructed parallel to an existing pipeline to increase capacity.

Background

On June 10, 2015, the Commission issued a Notice of Intent to Prepare an Environmental Assessment for the Proposed Susquehanna West Project and Request for Comments on Environmental Issues (NOI). The NOI was sent to affected landowners; federal, state, and local government agencies; elected officials; environmental and public interest groups; Native American tribes; other interested parties; and local libraries and newspapers. In response to the NOI, the Commission received comments from the Pennsylvania Department of Environmental Protection; Pennsylvania Department of Conservation and Natural Resources; Pennsylvania Department of Transportation; Stockbridge-Munsee Tribal Historic Preservation Office; and the Allegheny Defense Project. The primary environmental issues raised during scoping relate to impacts on wetlands and waterbodies, fish, wildlife, cultural resources, air quality, and impacts associated with road crossings.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-148), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: November 24, 2015.
Nathaniel J. Davis, Sr.,
Deputy Secretary.

[FR Doc. 2015-30398 Filed 11-30-15; 8:45 am]

BILLING CODE 6717-01-P